DEPARTMENT OF HOMELAND SECURITY

Coast Guard

33 CFR Part 100

[Docket No. USCG-2018-0369]

Special Local Regulation; Atlantic City International Triathlon, Atlantic City, NJ

AGENCY: Coast Guard, DHS.

ACTION: Notice of enforcement of regulation; change of enforcement date.

SUMMARY: The Coast Guard will enforce the special local regulation on the waters of the New Jersey Intracoastal Waterway (ICW), near Atlantic City, New Jersey, from 6 a.m. to 8 p.m. on August 11, 2018. This action is necessary to ensure safety of life on the navigable waters of the United States during a triathlon event. The purpose of this notice is to announce a change in the date in which the event is being held.

DATES: The regulations in 33 CFR 100.501 will be enforced from 6 a.m. to 8 p.m. on August 11, 2018, for the special local regulation listed as (a.)12 in the Table to § 100.501.

FOR FURTHER INFORMATION CONTACT: If you have questions about this notice of enforcement, you may call or email Petty Officer Edmund Ofalt, Waterways Management Branch, U.S. Coast Guard Sector Delaware Bay; telephone (215) 271-4814, email Edmund.J.Ofalt@uscg.mil.

SUPPLEMENTARY INFORMATION: From 6 a.m. to 8 p.m. on August 11, 2018, the Coast Guard will enforce the special local regulation at 33 CFR 100.501, table to § 100.501(a.)12 for the regulated area located in the New Jersey ICW in Atlantic City, NJ. The published enforcement periods for this event include “Aug—2nd or 3rd Sunday.” We are announcing a change of enforcement date for this year's event with this notice of enforcement because August 11, 2018 is the second Saturday in August.

Coast Guard regulations for recurring marine events and regattas within Captain of the Port Delaware Bay Zone, appear in § 100.501, Coast Guard Sector Delaware Bay, COTP Zone which specifies the location of the regulated area for this regulated area as all waters of the New Jersey ICW bounded by a line connecting the following points: Latitude 39°21′20″ N, longitude 074°27′18″ W, thence northeast to latitude 39°21′27.47″ N, longitude 074°27′10.31″ W, thence northeast to latitude 39°21′33″ N, longitude 074°26′57″ W, thence northwest to latitude 39°21′37″ N, longitude 074°27′03″ W, thence southwest to latitude 39°21′29.88″ N, longitude 074°27′14.31″ W, thence south to latitude 39°21′19″ N, longitude 074°27′22″ W, thence east to latitude 39°21′18.14″ N, longitude 074°27′19.25″ W, thence north to point of origin, near Atlantic City, NJ.

The Captain of the Port, Delaware Bay will be enforcing the Special Local Regulation as specified in § 100.501(c).

This notice of enforcement is issued under authority of 33 CFR 100.501 and 33 U.S.C. 1233. The Coast Guard will provide the maritime community with advanced notice of enforcement of regulation by Broadcast Notice to Mariners (BNM), Local Notice to Mariners and on-scene notice by designated representative.

Dated: April 26, 2018.
Scott E. Anderson,
Captain, U.S. Coast Guard, Captain of the Port Delaware Bay.

[FR Doc. 2018-09327 Filed 5-1-18; 8:45 am]

BILLING CODE 9110-04-P